NATIONAL SCIENCE FOUNDATION

Sunshine Act Meetings; National Science Board

The National Science Board's Committee on Strategy, pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Tuesday, February 7, 2017 at 11:30 to 12:30 p.m. EST. Open session: 11:30 to 12:00 p.m.; closed session: 12:00 to 12:30 p.m.

SUBJECT MATTER: Open meeting subject: Review and discuss draft charge for the Committee on Strategy. Closed meeting subject: Review and discuss NSF draft Strategic Plan, 2018-2022.

STATUS: Partly open, partly closed.

This meeting will be held by teleconference. A public listening line will be available for the open portion of the meeting. Members of the public must contact the Board Office (call 703-292-7000 or send an email message to nationalsciencebrd@nsf.gov) at least 24 hours prior to the teleconference for the public listening number. Please refer to the National Science Board Web site for additional information and schedule updates (time, place, subject matter or status of meeting) which may be found at http://www.nsf.gov/nsb/notices/. The point of contact for this meeting is Kathy Jacquart, kjacquar@nsf.gov.

Chris Blair,
Executive Assistant to the NSB Office.

[FR Doc. 2017-02096 Filed 1-27-17; 11:15 am]

BILLING CODE 7555-01-P